NATIONAL CREDIT UNION ADMINISTRATION

Sunshine Act Meetings

TIME AND DATE: 10:00 a.m., Thursday, June 21, 2018.

PLACE: Board Room, 7th Floor, Room 7047, 1775 Duke Street (All visitors must use Diagonal Road Entrance), Alexandria, VA 22314-3428.

STATUS: Open.

MATTERS TO BE CONSIDERED: 1. Board Briefing, Enterprise Solution Modernization Program Update.

2. Board Briefing, NCUA Rules and Regulations, Member Business Loans.

3. NCUA Rules and Regulations, Voluntary Mergers.

4. NCUA Rules and Regulations, Chartering and Field of Membership.

FOR FURTHER INFORMATION CONTACT: Gerard Poliquin, Secretary of the Board, Telephone: 703-518-6304.

Gerard Poliquin,
Secretary of the Board.

[FR Doc. 2018-13136 Filed 6-14-18; 4:15 pm]

BILLING CODE 7535-01-P